NATIONAL FOUNDATION ON THE ARTS AND HUMANITIES

45 CFR Part 1180

Institute of Museum and Library Services; Evaluation by Grantees

AGENCY: Institute of Museum and Library Services, National Foundation On the Arts and Humanities.

ACTION: Technical amendment; final rule.

SUMMARY: This rule makes a technical amendment to the Institute of Museum and Library Services' (IMLS') reporting guidelines for grantees. The purpose of this rule is to ensure the agency's requirements are consistent with guidance provided by the Office of Management and Budget (OMB).

DATES: Effective March 10, 2011.

FOR FURTHER INFORMATION CONTACT: Institute of Museum and Library Services, Attn: Office of the General Counsel, 1800 M Street, NW., 9th Floor, Washington, DC 20036; or Nancy E. Weiss, (202) 653-4640. Hearing impaired individuals are advised that information on this matter may be obtained by contacting the IMLS TTY Phone on (202) 653-4614.

SUPPLEMENTARY INFORMATION: Background: OMB Circular A-110, Uniform Administrative Requirements for Grants and Agreements With Institutions of Higher Education, Hospitals, and Other Non-Profit Organizations, provides, in part, that an agency awarding grants shall prescribe the frequency with which performance reports shall be submitted, and that that frequency shall be not more than quarterly, nor less than annually. 2 CFR 215.51.

IMLS amends 45 CFR 1180.46, Evaluation by the grantee, to ensure that IMLS requirements conform to the government-wide grants reporting requirements as reflected in OMB Circular A-110.

This final rule implements the OMB Circular and does not make any significant changes in current policies and procedures. IMLS issues this rule as a direct final rule. Under 5 U.S.C. 553(b)(3)(A) agencies are not required to undergo notice and comment procedure for “interpretative rules, general statements of policy, or rules of agency organization, procedure, or practice.” Because this rule brings IMLS' regulation into line with OMB Uniform Administrative Requirements for Grants and Agreements under Circular A-110, it falls under the exception cited above.

List of Subjects in 45 CFR Part 1180

Libraries, Museums, Administrative practice and procedure, Grant programs, Grant administration, Nonprofit organizations, Reporting and recordkeeping requirements.

Accordingly, 45 CFR part 1180 is amended as follows:

PART 1180—GRANT REGULATIONS

1. The authority citation for part 1180 is revised to read as follows:

Authority: 20 U.S.C. 9101-9176; 2 CFR 215.

2. Section 1180.46 is revised to read as follows:

§ 1180.46 Evaluation by the grantee.

(a) A grantee shall evaluate at least annually:

(1) The grantee's progress in achieving the objectives set forth in its approved application; and

(2) The contribution of the grant toward meeting the purposes of the Act.

(b) More frequent evaluations may be required by the Institute at the discretion of the Director or the Director's designee.

Nancy E. Weiss,
General Counsel, Institute of Museum and Library Services.

[FR Doc. 2011-5014 Filed 3-9-11; 8:45 am]

BILLING CODE 7036-01-P